NUCLEAR REGULATORY COMMISSION

[Docket No. 040-08838]

Notice of Availability of Environmental Assessment and Finding of No Significant Impact for License Amendment for the Department of the Army's Facility at Jefferson Proving Ground

AGENCY: Nuclear Regulatory Commission.

ACTION: Notice of Availability.

FOR FURTHER INFORMATION CONTACT: Thomas McLaughlin, Project Manager, Decommissioning Directorate, Division of Waste Management and Environmental Protection, Office of Nuclear Material Safety and Safeguards, U.S. Nuclear Regulatory Commission, Washington, DC 20555-0001; Telephone: (301) 415-5869; fax number: (301) 415-5398; e-mail: tgm@nrc.gov.

SUPPLEMENTARY INFORMATION:

I. Introduction

The Nuclear Regulatory Commission (NRC) is considering issuance of a license amendment to the Department of the Army (Army or licensee) for License No. SUB-1435. The amendment would authorize an alternate decommissioning schedule pursuant to 10 Code of Federal Regulations (CFR) part 40.42(g)(2), for the Army to conduct site characterization and prepare and submit a decommissioning plan for its facility at Jefferson Proving Ground, Madison, Indiana. NRC has prepared an Environmental Assessment (EA) in support of this action in accordance with the requirements of 10 CFR part 51. Based on the EA, the NRC has concluded that a Finding of No Significant Impact (FONSI) is appropriate.

II. EA Summary

The purpose of this proposed action is to amend Radioactive Materials License SUB-1435 to allow the Army to decommission its Jefferson Proving Ground facility using an alternate schedule for submittal of a decommissioning plan pursuant to 10 CFR part 40.42(g)(2). The Army is requesting a 5-year period to characterize the site and submit a decommissioning plan. The Army's request is contained in a letter to NRC dated May 25, 2005.

The NRC staff has determined that all steps in the proposed site characterization could be accomplished in compliance with the NRC public and occupational dose limits and effluent release limits. In addition, the staff has concluded that approval of the alternate decommissioning schedule would not result in a significant adverse radiological or non-radiological impact on the environment.

If the NRC approves the license amendment, the authorization will be documented in an amendment to NRC License No. SUB-1435. However, before approving the proposed amendment, the NRC will need to make the findings required by the Atomic Energy Act of 1954, as amended, and NRC's regulations. These findings will be documented in a Safety Evaluation Report in addition to the EA.

III. Finding of No Significant Impact

The staff has prepared the EA (summarized above) in support of the Army's proposed alternate schedule for submittal of a decommissioning plan. The NRC staff has concluded that there will be no significant adverse environmental impacts associated with approving the Army's license amendment request. On the basis of the EA, the NRC has concluded that the environmental impacts from the action are expected to be insignificant and has determined not to prepare an environmental impact statement for the action.

IV. Further Information

Documents related to this action, including the application for amendment and supporting documentation, are available electronically at the NRC's Electronic Reading Room at http://www.nrc.gov/reading-rm/adams.html. From this site, you can access the NRC's Agency-wide Document Access and Management System (ADAMS), which provides text and image files of NRC's public documents. The ADAMS accession number for the documents related to this notice are: The Army's letter to NRC dated May 25, 2005, ML051520319; the EA prepared for this action, ML053130257; Federal Register Notice for Amendment No. 13, ML053220289. If you do not have access to ADAMS or if there are problems in accessing the documents located in ADAMS, contact the NRC Public Document Room (PDR) Reference staff at 1-800-397-4209, 301-415-4737, or by e-mail to pdr@nrc.gov.

Any questions should be referred to Thomas McLaughlin, Division of Waste Management and Environmental Protection, U.S. Nuclear Regulatory Commission, Washington DC 20555, Mailstop T-7E18, telephone (301) 415-5869, fax (301) 415-5397.

Dated at Rockville, Maryland, this seventh day of March, 2006.
For the Nuclear Regulatory Commission.
Claudia M. Craig,
Acting Deputy Director, Decommissioning Directorate, Division of Waste Management and Environmental Protection, Office of Nuclear Material Safety and Safeguards.

[FR Doc. E6-3715 Filed 3-14-06; 8:45 am]

BILLING CODE 7590-01-P